FEDERAL ACCOUNTING STANDARDS ADVISORY BOARD

Notice of Issuance of Statement of Federal Financial Accounting Standards (SFFAS) No. 27, Identifying and Reporting Earmarked Funds; and Statement of Federal Financial Accounting Standards (SFFAS) No. 28, Deferral of the Effective Date of Reclassification of the Statement of Social Insurance: Amending SFFAS 25 and 26.

Board Action: Pursuant to 31 U.S.C. 3511(d), the Federal Advisory Committee Act (Pub. L. 92-463), as amended, and the FASAB Rules of Procedure, as amended in April 2004, notice is hereby given that the Federal Accounting Standards Advisory Board (FASAB) has issued Statement of Federal Financial Accounting Standard 27, Identifying and Reporting Earmarked Funds, and Statement of Federal Financial Accounting Standard 28, Deferral of the Effective Date of Reclassification of the Statement of Social Insurance: Amending SFFAS 25 and 26.

Copies of the Statement can be obtained by contracting FASAB at (202) 512-7350. The Statements are also available on FASAB's Home page http://www.fasab.gov/.

FOR FURTHER INFORMATION CONTACT: Wendy M. Comes, Executive Director, 441 G Street, NW., Mail Stop 6K17V, Washington, DC 20548, or call (202) 512-7350.

Authority: Federal Advisory Committee Act. Pub. L. 92-463.

Dated: January 14, 2005.
Charles Jackson,
Federal Register Liaison Officer.

[FR Doc. 05-1196 Filed 1-21-05; 8:45 am]

BILLING CODE 1610-01-M